DEPARTMENT OF THE INTERIOR

Office of the Secretary

Notice of Proposed Agency Information Collection

AGENCY: Office of Civil Rights, Interior.

ACTION: Notice and request for comments.

SUMMARY: In compliance with section 3506(c)(2)(A) of the Paperwork Reduction Act of 1995, the Office of Civil Rights, Office of the Secretary, Department of the Interior (DOI), announces that it has forwarded to the Office of Management and Budget (OMB) a proposed extension of the public information collection described below. Copies of the proposed information collection request may be obtained by contacting the Clearance Officer at the phone number listed below. Comments and suggestions on the requirement should be made directly to the Office of Management and Budget. A copy of the comments and suggestions should also be sent to the Clearance Officer.

DATES: OMB has up to 60 days to approve or disapprove the information collection but may respond after 30 days. Therefore, public comments should be submitted to OMB by April 24, 2006, in order to be assured of consideration.

ADDRESSES: Send your written comments to Office of Management and Budget, Office of Information and Regulatory Affairs, Attention, Department of the Interior Desk Officer, by fax to 202-395-6566, or by e-mail to oira_docket@omb.eop.gov. Send a copy of your written comments to Mercedes Flores, Department of the Interior, 1849 C Street, NW., MS-2607 MIB, Washington, DC 20240, or electronically to Mercedes_Flores@ios.doi.gov. Please mention that your comments concern the Applicant Background Survey, OMB control # 1091-0001.

FOR FURTHER INFORMATION CONTACT: To request more information on this proposed information collection or to obtain a copy of the proposal and associated collection instrument, please write to the above address, or call Mercedes Flores, (202) 208-6120. The collection instrument is also available on the Internet at: http://www.doi.gov/diversity/doc/di_1935.pdf.

SUPPLEMENTARY INFORMATION:

I. Abstract

DOI is below parity with the Relevant Civilian Labor Force representation for many mission critical occupations. The Department's Strategic Human Capital Management Plan identifies the job skills that will be needed in its current and future workforce. The job skills it will need are dispersed throughout its eight bureaus and include, among others, making visitors welcome to various facilities, such as parks and refuges, processing permits for a wide variety of uses of the public lands, collecting royalties for minerals extracted from the public lands, rounding-up and adopting-out wild horses and burros found in the west, protecting archeological and cultural resources of the public lands, and enforcing criminal laws of the United States. As a result of this broad spectrum of duties and services, the Department touches the lives of most Americans.

The people who deal with the Department bring with them a wide variety of backgrounds, cultures, and experiences. A diverse workforce enables the Department to provide a measure of understanding to its customers by relating to the diverse background of those customers. By including employees of all backgrounds, all DOI employees gain a measure of knowledge, background, experience, and comfort in serving all of the Department's customers.

In order to determine if there are barriers in its recruitment and selection processes, DOI must track the demographic groups that apply for its jobs. There is no other statistically valid method to make these determinations, and no source of this information other than directly from applicants. The data collected is not provided to selecting officials and plays no part in the merit staffing or the selection processes. The data collected will be used in summary form to determine trends covering the demographic make-up of applicant pools and job selections within a given occupation or organizational group. The records of those applicants not selected are destroyed in accordance with DOI's records management procedures.

II. Data

(1) Title: Applicant Background Survey.

OMB Control Number: 1091-0001.

Current Expiration Date: March 31, 2006.

Type of Review: Information Collection Renewal.

Affected Entities: Applicants for DOI jobs.

Estimated annual number of respondents: 535,160.

Frequency of response: Once per job application.

(2) Annual reporting and recordkeeping burden.

Average reporting burden per application: 3 minutes.

Total annual reporting: 26,758 hours.

(3) Description of the need and use of the information: This information is required to obtain the source of recruitment, ethnicity, race, and disability data on job applicants to determine if the recruitment is effectively reaching all aspects of relevant labor pools and to determine if there are proportionate acceptance rates at various stages of the recruitment process. Response is optional. The information is used for evaluating recruitment only, and plays no part in the selection of who is hired.

III. Request for Comments

Request for Comments: Comments are invited on: (a) Whether the proposed collection of information is necessary for the proper performance of the agency, including whether the information shall have practical utility; (b) the accuracy of the agency's estimate of the burden of the proposed information collection; (c) ways to enhance the quality, utility and clarity of the information to be collected; and (d) ways to minimize the burden of the information collection on respondents, including through the use of automated collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: March 16, 2006.
Sharon Eller,
Director, Office of Civil Rights.

[FR Doc. 06-2846 Filed 3-23-06; 8:45 am]

BILLING CODE 4310-RE-P